DEPARTMENT OF DEFENSE

Office of the Secretary

DoD Medicare-Eligible Retiree Health Care Board of Actuaries; Notice of Federal Advisory Committee Meeting

AGENCY: Department of Defense (DoD).

ACTION: Federal Advisory Committee meeting notice.

SUMMARY: The Department of Defense announces that the following Federal Advisory Committee meeting of the DoD Medicare-Eligible Retiree Health Care Board of Actuaries will take place. This meeting is open to the public.

DATES: Friday, August 3, 2018, from 10:00 a.m. to 12:00 p.m.

ADDRESSES: 4800 Mark Center Drive, Conference Room 9, Level B1, Alexandria, VA 22350.

FOR FURTHER INFORMATION CONTACT: Mrs. Kathleen Ludwig at the Defense Human Resource Activity, DoD Office of the Actuary, 4800 Mark Center Drive, STE 03E25 Alexandria, VA 22350-8000. Phone: 571-372-1993. Email: Kathleen.A.Ludwig.civ@mail.mil.

SUPPLEMENTARY INFORMATION: This meeting is being held under the provisions of the Federal Advisory Committee Act of 1972 (5 U.S.C., Appendix, as amended), the Government in the Sunshine Act of 1976 (5 U.S.C. 552b, as amended), and 41 CFR 102-3.150.

Purpose of the meeting: The purpose of the meeting is to execute the provisions of 10 U.S.C. chapter 56 (10 U.S.C. 1114 et. seq). The Board shall review DoD actuarial methods and assumptions to be used in the valuation of benefits under DoD retiree health care programs for Medicare-eligible beneficiaries.

Agenda

1. Meeting Objective

a. Approve actuarial assumptions and methods needed for calculating:

(i) September 30, 2017 unfunded liability (UFL)

(ii) FY 2020 per capita full-time and part-time normal cost amounts

(iii) October 1, 2018, Treasury UFL amortization payment

b. Approve per capita full-time and part-time normal cost amounts for the October 1, 2018 (FY 2019) normal cost payments.

2. Trust Fund Update—Investment Experience

3. Medicare-Eligible Retiree Health Care Fund Update

4. September 30, 2016, Actuarial Valuation Results

5. September 30, 2017, Actuarial Valuation Proposals

6. Decisions

(i) Actuarial assumptions and methods needed for calculating items specified in agenda item 1.a

(ii) Per capita full-time and part-time normal cost amounts needed for calculating item specified in agenda item 1.b.

Public's accessibility to the meeting: Pursuant to 5 U.S.C. 552b and 41 CFR 102-3.140 through 102-3.165 and the availability of space, this meeting is open to the public. The Mark Center is an annex of the Pentagon. Those without a valid DoD Common Access Card must contact Kathleen Ludwig at 571-372-1993 no later than July 6, 2018. Attendees should secure their meeting reservations before this deadline to avoid any issues with building access. It is strongly recommended that attendees plan to arrive at the Mark Center at least 30 minutes prior to the start of the meeting.

Committee's Designated Federal Officer or Point of Contact: The Designated Federal Officer is Ms. Inger Pettygrove, 703-225-8803, Inger.M.Pettygrove.civ@mail.mil. Persons desiring to attend the DoD Medicare-Eligible Retiree Health Care Board of Actuaries meeting or make an oral presentation or submit a written statement for consideration at the meeting, must notify Kathleen Ludwig at 571-372-1993, or Kathleen.A.Ludwig.civ@mail.mil, by July 6, 2018. For further information contact Mrs. Ludwig at the Defense Human Resource Activity, DoD Office of the Actuary, 4800 Mark Center Drive, STE 03E25 Alexandria, VA 22350-8000.

Dated: February 22, 2018.
Aaron Siegel,
Alternate OSD Federal Register Liaison Officer, Department of Defense.

[FR Doc. 2018-03977 Filed 2-26-18; 8:45 am]

BILLING CODE 5001-06-P